DEPARTMENT OF COMMERCE

International Trade Administration

[A-570-147, A-533-910, A-552-834]

Paper File Folders From the People's Republic of China, India, and the Socialist Republic of Vietnam: Postponement of Preliminary Determinations in the Less-Than-Fair-Value Investigations

AGENCY: Enforcement and Compliance, International Trade Administration, Department of Commerce.

DATES: Applicable February 13, 2023.

FOR FURTHER INFORMATION CONTACT: Janaé Martin (the People's Republic of China (China)), Eric Hawkins (India), and Jinny Ahn (the Socialist Republic of Vietnam (Vietnam)); AD/CVD Operations, Offices V and VIII, Enforcement and Compliance, International Trade Administration, U.S. Department of Commerce, 1401 Constitution Avenue NW, Washington, DC 20230; telephone: (202) 482-0238, (202) 482-1988, or (202) 482-0339, respectively.

SUPPLEMENTARY INFORMATION:

Background

On November 1, 2022, the U.S. Department of Commerce (Commerce) initiated less-than-fair-value (LTFV) investigations of imports of paper file folders from China, India, and Vietnam.¹ Currently, the preliminary determinations are due no later than March 21, 2023.

¹ See Paper File Folders from the People's Republic of China, India, and the Socialist Republic of Vietnam: Initiation of Less-Than-Fair-Value Investigations, 87 FR 67441 (November 8, 2022).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

China

On February 2, 2023, the Coalition of Domestic Folder Manufacturers (the petitioner) ² submitted a timely request that Commerce postpone the preliminary determination in the China LTFV investigation.³ The petitioner stated that it requests postponement “because Commerce recently selected {Ningbo Guangbo Import & Export Co., Ltd.} as an additional mandatory respondent, and additional time will be required to evaluate and comment upon that company's questionnaire responses due March 6, 2023.” ⁴

² The members of the Coalition of Domestic Folder Manufacturers are Smead Manufacturing Company, Inc. and TOPS Products LLC.

³ See Petitioner's Letter, “Paper File Folders from China: Petitioner's Request for Postponement of the Preliminary Determination,” dated February 2, 2023.

⁴ Id.

India

On February 2, 2023, the petitioner submitted a timely request that Commerce postpone the preliminary determination in the India LTFV investigation.⁵ The petitioner stated that it requests postponement “to enable Commerce to evaluate fully the initial questionnaire responses of Navneet India Limited {} and solicit supplemental information, as necessary.” ⁶

⁵ See Petitioner's Letter, “Paper File Folders from India: Petitioner's Request for Postponement of the Preliminary Determination,” dated February 2, 2023.

⁶ Id.

Vietnam

On February 2, 2023, the petitioner submitted a timely request that Commerce postpone the preliminary determination in the Vietnam LTFV investigation.⁷ The petitioner stated that it requests postponement “because Commerce very recently selected CRE8 Direct (HK) Co., Ltd., as an additional respondent in the Vietnam investigation {and} . . . more time may be needed to enable Commerce to evaluate fully the initial questionnaire responses of Three-Color Stone (Vietnam) Company Limited and solicit supplemental information, as necessary.” ⁸

⁷ See Petitioner's Letter, “Paper File Folders from Vietnam: Petitioner's Request for Postponement of the Preliminary Determination,” dated February 2, 2023.

⁸ Id.

For the reasons stated above and because there are no compelling reasons to deny the requests, Commerce, in accordance with section 733(c)(1)(A) of the Act and 19 CFR 351.205(e), is postponing the deadline for the preliminary determination by 50 days (i.e., 190 days after the date on which this investigation was initiated). As a result, Commerce will issue its preliminary determinations in the above-referenced investigations no later than May 10, 2023. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: February 7, 2023.
Lisa W. Wang,
Assistant Secretary for Enforcement and Compliance.

[FR Doc. 2023-03016 Filed 2-10-23; 8:45 am]

BILLING CODE 3510-DS-P